DEPARTMENT OF TRANSPORTATION

Federal Aviation Administration

One Hundred and First RTCA 159 Plenary

AGENCY: Federal Aviation Administration (FAA), U.S. Department of Transportation (DOT).

ACTION: One Hundred and First RTCA 159 Plenary.

SUMMARY: The FAA is issuing this notice to advise the public of a meeting of One Hundred and First RTCA 159 Plenary.

DATES: The meeting will be held May 03, 2018 10:00 a.m.-12:00 p.m. EDT.

ADDRESSES: The meeting will be held at: Virtual: https://rtca.webex.com/rtca/j.php?MTID=m898a2c3d9227c3b790bf19f89196dd35, Meeting number (access code): 639 753 422, Meeting password: Sc-159_101!.

FOR FURTHER INFORMATION CONTACT: Karan Hofmann at khofmann@rtca.org or 202-330-0680, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the One Hundred and First RTCA 159 Plenary. The agenda will include the following:

1. INTRODUCTORY REMARKS: DFO, RTCA AND CO-CHAIRS

2. APPROVAL OF SUMMARIES OF PREVIOUS MEETING: ONE HUNDREDTH MEETING HELD MARCH 16, 2018 (RTCA PAPER NO. 075-18/SC159-1071)

3. REVIEW OF GNSS L1/L5 ANTENNA MOPS FINAL REVIEW AND COMMENT (FRAC) ACTIVITIES

4. DECISION TO APPROVE RELEASE OF GNSS L1/L5 ANTENNA MOPS FOR PRESENTATION TO PROGRAM MANAGEMENT COMMITTEE FOR PUBLICATION

5. GPS/INTERFERENCE (WG-6): UPDATE REGARDING TAKING DRAFT DO-292 REVISION INTO FINAL REVIEW AND COMMENT (FRAC)

6. DISCUSSION OF TERMS OF REFERENCE UPDATES

7. ACTION ITEM REVIEW

8. ASSIGNMENT/REVIEW OF FUTURE WORK

9. OTHER BUSINESS

10. DATE AND PLACE OF NEXT MEETING

11. ADJOURN

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on March 19, 2018.
Michelle Swearingen,
Systems and Equipment Standards Branch, AIR-6B0, Policy and Innovation Division, AIR-600, Federal Aviation Administration.

[FR Doc. 2018-05808 Filed 3-21-18; 8:45 am]

BILLING CODE 4910-13-P